DEPARTMENT OF STATE

[Public Notice 8077]

U.S. National Commission for UNESCO; Notice of Meeting

The U.S. National Commission for UNESCO will host its Annual Meeting on Monday, November 26, from 10:00 a.m. until 3:30 p.m. E.S.T. The meeting will convene in room 309 of the George Washington University Marvin Center at 800 21st Street NW., Washington, DC.

The meeting will have a series of speakers offering information about UNESCO and the current state of United States engagement with the Organization. The meeting will also feature a public comment session, limited to approximately 15 minutes in total, with two minutes allowed per speaker.

For more information or to arrange to participate in this meeting (including requests for reasonable accommodation), individuals should contact Francine Randolph, Office of UNESCO Affairs, Washington, DC 20037. Telephone (202) 663-0026; Fax (202) 663-0035.

The National Commission may be contacted via email at DCUNESCO@state.gov, or via phone at (202) 663-0026. Its Web site can be accessed at: http://www.state.gov/p/io/unesco/.

Dated: October 19, 2012.
Kelly O. Siekman,
National Commission for UNESCO, Department of State.

[FR Doc. 2012-26673 Filed 10-29-12; 8:45 am]

BILLING CODE 4710-19-P